DEPARTMENT OF THE INTERIOR

Bureau of Land Management

[MT-050-1430-ET; MTM 41502, MTM 41513, MTM 41560]

Expiration of Withdrawals and Opening of Lands; Montana

AGENCY: Bureau of Land Management, Interior.

ACTION: Notice.

SUMMARY: Three public land orders, which withdrew 37,216.07 acres of public lands from surface entry for stock driveway purposes, have expired. This action opens the lands to surface entry.

FOR FURTHER INFORMATION CONTACT: Jeff Daugherty, BLM Dillon Field Office, 1005 Selway Drive, Dillon, Montana 59725-9431, 406-683-8038, or Sandra Ward, BLM Montana State Office, P.O. Box 36800, Billings, Montana 59107-6800, 406-896-5052.

SUPPLEMENTARY INFORMATION: 1. The following public land orders (PLOs), which withdrew public lands for stock driveway purposes, have expired:

PLO | FR citation | Area name | Expired | Acres
6503 | 49 FR 3856 | Stock Driveway No. 11, MT No. 1 | 2/28/2004 | 31,106.98
6515 | 49 FR 5923 | Stock Driveway No. 22, MT No. 3 | 2/15/2004 | 2,985.92
6519 | 49 FR 5925 | Stock Driveway No. 11, MT No. 1 | 2/15/2004 | 1,897.24

2. Copies of the public land orders for the expired withdrawals showing the affected lands are available at the BLM Montana State Office (address above).

3. In accordance with 43 CFR 2091.6, at 9 a.m. on May 12, 2004, the lands withdrawn by the public land orders listed in Paragraph 1 above will be opened to the operation of the public land laws generally, subject to valid existing rights, the provisions of existing withdrawals, other segregations of record, and the requirements of applicable law. All valid applications received at or prior to 9 a.m. on May 12, 2004, shall be considered as simultaneously filed at that time. Those received thereafter shall be considered in the order of filing.

Dated: February 27, 2004.
Howard A. Lemm,
Deputy State Director, Division of Resources.

[FR Doc. 04-8154 Filed 4-9-04; 8:45 am]

BILLING CODE 4310-$$-P